SECURITIES AND EXCHANGE COMMISSION

[Release No. 34-87587A; File No. SR-CboeBZX-2019-100]

Self-Regulatory Organizations; Cboe EDGX Exchange, Inc.; Notice of Filing and Immediate Effectiveness of a Proposed Rule Change To Remove Its Partial Post Only at Limit Order Type; Correction

December 2, 2019.

AGENCY: Securities and Exchange Commission.

ACTION: Notice; correction.

SUMMARY: The Securities and Exchange Commission published a document in the Federal Register on November 29, 2019, concerning a Notice of Filing and Immediate Effectiveness of a Proposed Rule Change to Remove its Partial Post Only at Limit Order Type. The document contained a typographical error.

FOR FURTHER INFORMATION CONTACT: Christopher W. Chow, Division of Trading and Markets, Securities and Exchange Commission, 100 F Street NE, Washington, DC 20549, (202) 551-5622.

Correction

In the Federal Register of November 29, 2019 in FR Doc. 25833, on page 65878, in the third and fourth line in the subheading under the heading “SECURITIES AND EXCHANGE COMMISSION” in the third column, correct the reference to “Cboe EDGX Exchange, Inc” instead to “Cboe BZX Exchange, Inc.”

Dated: December 2, 2019.
Jill M. Peterson,
Assistant Secretary.

[FR Doc. 2019-26299 Filed 12-5-19; 8:45 am]

BILLING CODE 8011-01-P